DEFENSE NUCLEAR FACILITIES SAFETY BOARD

Sunshine Act Meetings

TIME AND DATE: 11 a.m.-2 p.m., December 4, 2020.

PLACE: This meeting will be broadcast via a live internet video stream. Individuals interested in viewing the meeting may visit: https://www.dnfsb.gov/public-hearings-meetings/public-meeting-december-4-2020. On the day of the meeting, a link to view the video stream will be posted on that page. The page may also be accessed by visiting dnfsb.gov and clicking: Public Meeting—December 4, 2020.

STATUS: Open.

MATTERS TO BE CONSIDERED: In this open meeting, members of the Board's staff will brief the Board Members regarding the status of Recommendation 2020-1 regarding nuclear safety requirements at the Department of Energy. During and following the staff presentations, Board Members may deliberate on any appropriate follow-on actions for Recommendation 2020-1.

CONTACT PERSON FOR MORE INFORMATION: Tara Tadlock, Director of Board Operations, Defense Nuclear Facilities Safety Board, 625 Indiana Avenue NW, Suite 700, Washington, DC 20004-2901, (800) 788-4016. This is a toll-free number.

Dated: November 25, 2020.
Thomas A. Summers,
Acting Chairman.

[FR Doc. 2020-26530 Filed 11-25-20; 4:15 pm]

BILLING CODE 3670-01-P